DEPARTMENT OF TRANSPORTATION

Federal Highway Administration

Environmental Impact Statement: Kings County, NY

AGENCY: Federal Highway Administration (FHWA), USDOT.

ACTION: Notice of Intent (NOI).

SUMMARY: The FHWA is issuing this notice to advise the public and other agencies that a tiered environmental impact statement (EIS) will be prepared for a proposed project involving approximately 1.5 miles of the Brooklyn-Queens Expressway (BQE), Interstate 278 (I-278) in Kings County, New York (Project Identification Number X730.56). This segment of the BQE extends from Atlantic Avenue to Sands Street and encompasses 21 structures, including a unique 0.4-mile triple cantilever structure. The objective of the tiered EIS is to evaluate alternatives and make corridor level decisions regarding the rehabilitation or reconstruction of the existing facility and to identify a general alignment and corridor for proposed improvements. The tiered approach will allow for a broad range of solutions and the appropriate consideration of area wide environmental and land use impacts, including the maintenance and protection of traffic during construction.

FOR FURTHER INFORMATION CONTACT: Jeffrey W. Kolb, P.E., Division Administrator, Federal Highway Administration, New York Division, Leo W. O'Brien Federal Building, Suite 719, Clinton Avenue and North Pearl Street, Albany, New York 12207, Telephone: (518) 431-4127; or Fred Libove, P.E., Project Development Supervisor, New York State Department of Transportation, Region 11, Hunters Point Plaza, 47-40 21st Street, Long Island City, New York 11101, Telephone: (718) 482-4565.

SUPPLEMENTARY INFORMATION: The FHWA, in cooperation with the New York State Department of Transportation (NYSDOT), will prepare a tiered EIS that will study and document proposed improvements to a 1.5-mile segment of the BQE (I-278) between Atlantic Avenue and Sands Street in Kings County, New York (the Project). The Project would be the first major rehabilitation or reconstruction of this segment of the BQE/I-278 since its opening in 1954. Based on the results of on-site inspections of 14 of the 21 structures as documented in a June 2002 Seismic Evaluation Report (SER) prepared for the NYSDOT, and the results of recent inspections of the remaining seven structures, the current overall condition of this segment of the BQE is safe for use by the public. However, the SER and subsequent inspections of the structures, indicate that corrective action will be required within the next 10 to 15 years to maintain this segment of the BQE in a state of good repair.

Need for the Project: The segment of the BQE/I-278 under consideration carries a daily volume of approximately 140,000 vehicles and is a critical transportation link in the New York City metropolitan area that serves the needs of the Boroughs of Brooklyn, Manhattan, Queens, the Bronx and Staten Island, as well as areas outside New York City.

The most important bridge along this segment of the BQE is the unique triple cantilevered structure. This multi-level structure carries six lanes of the BQE. The eastbound and westbound roadways, with three lanes each, are carried at separate levels. The eastbound lanes are located above the westbound lanes. Furman Street, an important local connector, runs parallel to the highway at grade below the westbound lanes of the BQE. A third cantilever above the eastbound lanes of the highway supports the Brooklyn Heights Promenade, a key community resource that provides spectacular views of the East River, Lower Manhattan and the Statue of Liberty. The remaining bridges within this segment of the BQE are comprised of multi-girder steel and concrete-encased steel structures. Indirect and circuitous connections between the Brooklyn and Manhattan Bridges and the BQE add to the complexity of this segment of the highway.

The segment of highway within the project limits is characterized by narrow lanes (10.5 feet), lack of shoulders, and short merge/weave distances near on-ramps and off-ramps that do not meet current highway design standards. These deficiencies, combined with vertical clearance constraints, and the approximately 140,000 vehicles using this segment of the highway each day, result in the highway operating at or above capacity during most of the day. Severe congestion throughout much of the midday and the diversion of the highway traffic, particularly truck traffic because of the vertical clearances, onto local streets are also operational deficiencies.

Based on the results of the SER and periodically scheduled inspections of the facility by NYSDOT and the New York City Department of Transportation (NYCDOT), which owns the facility within the project limits, the NYSDOT and FHWA convened an Accelerated Construction Technology Transfer (ACTT) workshop in March 2006 attended by a broad range of public agency staff and private consultants to consider potentially viable options for rehabilitating or replacing the structures, and on ways to alleviate the severe congestion experienced by motorists along this segment of the BQE/I-278. Issues considered in identifying and evaluating possible alternatives during the ACTT workshop included constructability, environmental impacts, geometric design considerations, public involvement/concerns, structural considerations, traffic, safety, use of intelligent transportation systems (ITS), and work zone concerns. Although the ACTT workshop reached no final recommendation on which alternative should be pursued to address the structural deterioration or operational issues affecting this segment of the BQE/I-278, the results of the ACTT workshop confirmed the need for a more comprehensive examination of alternative rehabilitation or reconstruction options. The results of the SER and ACTT workshop will be considered in the environmental review process initiated with this NOI.

Environmental Review Process: The EIS will be developed in accordance with the National Environmental Policy Act of 1969 (NEPA), the environmental review provisions of Section 6002 of the Safe, Accountable, Flexible, Efficient Transportation Equity Act: A Legacy for Users (SAFETEA-LU), and the New York State Environmental Quality Review Act (SEQRA). The FHWA and the NYSDOT will use a tiered process, as provided for in 40 CFR 1508.28, in the completion of the environmental review of the Project. “Tiering” is a staged environmental review process applied to environmental reviews for complex projects.

The initial phase (“Tier 1 EIS”) of this process will address broad corridor-level issues and proposals. Subsequent phases or tiers will analyze, at a greater level of detail, narrower site-specific proposals based on the decisions made in Tier 1.

Tier 1: Although open to refinement based on public and agency review and comment, the Tier 1 assessment will result in a NEPA document with the appropriate level of detail for corridor-level decisions and will address broad overall issues of concern, including but not limited to:

—Confirm the purpose and need for the proposed action.

—Determine the logical termini for the proposed action.

—Define the study area appropriate to assess reasonable alternatives.

—Identify a comprehensive set of goals and objectives for the corridor in conjunction with Stakeholders and Steering Committee members. These goals and objectives will be crafted to allow comprehensive evaluation of all aspects of the project to include alignment, mode, limits, etc.

—Identify the range of reasonable alternatives to be considered, including consideration of travel demand management, transportation systems management, and transit options consistent with the current and planned use of the corridor and the transit needs and existing services within and adjacent to the study area.

—Develop criteria and screen alternatives to eliminate those that do not meet the purpose and need of the proposed action.

—Identify the general alignment of the reasonable alternatives.

—Identify right-of-way requirements for the reasonable alternatives.

—Characterize the overall land use and environmental consequences of the reasonable alternatives.

—Establish, as necessary, the timing and sequencing of independent actions to maintain a state of good repair.

—Establish the environmental review process to be followed in completing subsequent tier evaluations of the proposed Project.

Tier 2: The second tier assessment will result in more detailed assessments of a range of build alternatives within the general corridor and alignment identified in the Tier 1 EIS. These evaluations will be based on a higher level of engineering detail and environmental analysis than in the Tier 1 evaluation. It is anticipated that the subsequent evaluation(s) will:

—Incorporate by reference the data and evaluations included in the Tier 1 EIS.

—Concentrate on the issues specific to the selected alternative identified in the Tier 1 EIS.

—Provide a more detailed evaluation of transit accommodations if carried forward from Tier 1.

—Screen the identified alternatives to determine the alternative that best meets the purpose and need for the proposed action.

—Identify the environmental consequences at a higher level of detail than in the Tier 1 assessment and identify measures necessary to mitigate environmental impacts based on a higher level of engineering detail than in the Tier 1 EIS.

—Establish, as necessary, the timing and sequencing of independent actions to maintain a state of good repair.

Notice of Initiation of the Environmental Process and Request to Public Agencies to Become Participating Agencies in the Environmental Review Process: In accordance with Section 6002 of SAFETEA-LU, letters will be sent to all Federal, State and local agencies, and to private organizations and citizens who have previously identified and/or expressed interest in the project, notifying them of the initiation of the environmental process and requesting that they be included as participating agencies or parties in the environmental review process. Once the Draft EIS is certified as complete, it will be made available for further public and agency review and comment.

Scoping Process: To assure that the full range of issues related to the proposed action is addressed and all significant issues identified, FHWA and NYSDOT will undertake an extensive public “scoping process” that will allow the public and affected agencies to provide comment on the scope of the environmental review process. To facilitate public comment, a Draft EIS Scoping Document will be prepared for public review and comment. Included in the Draft Scoping Document will be draft descriptions of:

—Purpose and Need for the Project.

—Alternatives for Study.

—Public Involvement Process.

—Environmental Impact Assessment Methodologies and Study Areas.

A separate notification will be published regarding the availability of the Draft Scoping Document for public review. Additional opportunities for comment will also be provided through a series of public participation activities. These include:

—Public scoping meetings on the EIS will be held at a venue within the project study area, during which the public will be provided with a description of information included in the Draft Scoping Document and opportunity to comment on the scope of the DEIS. NYSDOT personnel will be available at the scoping meetings to answer questions concerning the Project and proposed scope of the DEIS.

—Direct discussions with agencies and organizations with jurisdiction or interest in the project corridor and project area.

—Briefings to elected officials.

—A project Web site that will allow the public to provide comment over the Internet.

Comments received from any of these activities and sources will be considered in the development of the environmental document.

Public Hearing: A public hearing will be held after publication of the Tier 1 DEIS to obtain comments on that document. Public notice will be given prior to the hearing regarding its time and location and process for submitting comment.

Project Funding: The proposed project will be funded in part through Federal programs which assist State transportation agencies in the planning and development of an integrated, interconnected transportation system important to interstate commerce and travel by constructing and rehabilitating the National Highway System, including the Interstate System.

(Catalog of Federal Domestic Assistance Program Number 20.205, Highway Research Planning and Construction. The regulations implementing Executive Order 12372, regarding intergovernmental consultation on Federal programs and activities apply to this program).

Issued on: April 14, 2009.
Jeffrey W. Kolb,
Division Administrator, Federal Highway Administration, New York Division, Albany, New York.

[FR Doc. E9-8978 Filed 4-17-09; 8:45 am]

BILLING CODE 4910-22-P